DEPARTMENT OF DEFENSE

Department of the Air Force

[23-RI-L-05]

Notice of Intent to Grant an Exclusive Patent License

AGENCY: Department of the Air Force, Department of Defense.

ACTION: Notice of intent.

SUMMARY: Pursuant to the Bayh-Dole Act and implementing regulations, the Department of the Air Force hereby gives notice of its intent to grant an exclusive patent license to Paterson Aerospace Systems, Corp. duly organized, validly existing, and in good standing in the State of Delaware having a place of business at 24a Trolley Sq. #1401, Wilmington, DE 19806.

DATES: Written objections must be filed no later than fifteen (15) calendar days after the date of publication of this Notice.

ADDRESSES: Submit written objections to Stephen Colenzo, AFRL/RI, 525 Brooks Road, Rome, New York 13441; or Email: stephen.colenzo@us.af.mil. Include Docket No. 23-RI-L-05 in the subject line of the message.

FOR FURTHER INFORMATION CONTACT: Stephen Colenzo, AFRL/RI, 525 Brooks Road, Rome, New York 13441; or Email: stephen.colenzo@us.af.mil; Office: 315-330-7665

SUPPLEMENTARY INFORMATION:

Abstract of Patent Application(s)

Various embodiments of the disclosed subject matter provide systems, methods, architectures, mechanisms, apparatus, computer implemented method and/or frameworks configured for tracking Earth orbiting objects and adapting SSN tracking operations to improve tracking accuracy while reducing computational complexity and resource consumption associated with such tracking.

Intellectual Property:

—DIGGINS ET AL, U.S. Patent No. 11,584,550, issued on 21 February 2023, and entitled “System and Method of Space Object Tracking and Surveillance Network Control.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-20923 Filed 9-25-23; 8:45 am]

BILLING CODE 5001-10-P